DEPARTMENT OF LABOR

Employment and Training Administration

[TA-W-57,603]

Cordis Corporation, Miami Lakes, FL; Notice of Revised Determination on Reconsideration

By letter dated September 28, 2005, the subject company requested administrative reconsideration regarding the Department of Labor's Notice of Negative Determination Regarding Eligibility to Apply for Worker Adjustment Assistance, applicable to the workers of the subject firm. Workers produce medical devices used for surgical procedures.

A negative determination regarding the subject facility was signed on August 25, 2005. The Department's notice will soon be published in the Federal Register. The negative determination was based on the findings that there was neither a significant decline in employment at the subject facility nor a threat of employment decline at the subject facility since the previous certification for the subject company (TA-W-52,275) expired on August 7, 2005.

During the reconsideration investigation, the Department was informed by the subject company that a significant proportion of workers have been/will be separated from the subject due to an ongoing shift of medical device production to Mexico.

In accordance with Section 246 the Trade Act of 1974 (26 U.S.C. 2813), as amended, the Department herein presents the results of its investigation regarding certification of eligibility to apply for Alternative Trade Adjustment Assistance (ATAA) for older workers.

In order for the Department to issue a certification of eligibility to apply for ATAA, the group eligibility requirements of Section 246 of the Trade Act must be met. The Department has determined in this case that the requirements of Section 246 have been met.

A significant number of workers at the firm are age 50 or over and possess skills that are not easily transferable. Competitive conditions within the industry are adverse.

Conclusion

After careful review of the additional facts obtained on reconsideration, I conclude that a shift of production to Mexico of medical devices used in surgical procedures like or directly competitive with those produced at Cordis Corporation, Miami Lakes, Florida, contributed importantly to the declines in sales or production and to the total or partial separation of workers at the subject firm. In accordance with the provisions of the Act, I make the following certification:

All workers of Cordis Corporation, Miami Lakes, Florida who became totally or partially separated from employment on or after August 8, 2005 through two years from the date of this certification, are eligible to apply for adjustment assistance under Section 223 of the Trade Act of 1974, and are eligible to apply for alternative trade adjustment assistance under Section 246 of the Trade Act of 1974.

Signed in Washington, DC this 4th day of October 2005.
Elliott S. Kushner,
Certifying Officer, Division of Trade Adjustment Assistance.

[FR Doc. E5-5609 Filed 10-12-05; 8:45 am]

BILLING CODE 4510-30-P